NATIONAL ARCHIVES AND RECORDS ADMINISTRATION

Advisory Committee on Presidential Libraries Meeting

Notice is hereby given that the Advisory Committee on Presidential Libraries will meet on September 21, 2001, at 1:30 p.m., at the Houston I meeting room on the second floor of the Double Tree Guest Suites, 303 W. 15th Street in Austin, Texas.

The agenda for the meeting will be the Presidential library programs and a discussion of several critical issues including dialogue concerning the symposium on the “Future of Presidential Libraries” and a report by the Archivist on recent developments at NARA.

The meeting will be open to the public. For further information, contact David Peterson at 301-713-6050.

Dated: August 31, 2001.
Mary Ann Hadyka,
Committee Management Officer.

[FR Doc. 01-22483 Filed 9-6-01; 8:45 am]

BILLING CODE 7515-01-U